FEDERAL COMMUNICATIONS COMMISSION

47 CFR Part 73

[DA 03-821; MM Docket No. 99-243; RM-9675, 10121, 10122, 10123]

Radio Broadcasting Services; Cameron, Rosebud, Thorndale and Thrall, TX

AGENCY: Federal Communications Commission.

ACTION: Proposed rule; withdrawal.

SUMMARY: A Notice of Proposed Rule Making was issued in response to a petition filed by Houston Christian Broadcasters, Inc. (“HCB”). See 64 FR 37926, July 14, 1999. HCB requested the allotment of Channel *286A at Thorndale, TX, reservation of the channel for noncommercial educational use, and amendment of its application for Channel 257A at Thorndale to specify operation on Channel *286A. Counterproposals were filed by Munbila Broadcasting Corp. requesting the allotment of Channel 286A at Rosebud, TX and by Elgin FM Limited Partnership requesting the allotment of Channel 286A at Thrall, TX. Additionally, a one-step application filed by Cameron Broadcasting requesting the substitution of Channel 286C3 for Channel 232A at Cameron, TX was accepted as a counterproposal. The proposals for Thorndale, Rosebud and Thrall, TX have been withdrawn. The application for Cameron, TX will be processed by the Audio Division subject to Commission Rules. Action in this document dismisses the petition for Thorndale and the counterproposals requesting allotments at Rosebud and Thrall. With this action, this proceeding is terminated.

ADDRESSES: Federal Communications Commission, 445 12th Street, SW., Washington, DC 20554.

FOR FURTHER INFORMATION CONTACT: Kathleen Scheuerle, Media Bureau, (202) 418-2180.

SUPPLEMENTARY INFORMATION: This is a synopsis of the Commission's Report and Order, MM Docket No. 99-243, adopted March 19, 2003, and released March 21, 2003. The full text of this Commission decision is available for inspection and copying during normal business hours in the Commission's Reference Center, 445 12th Street, SW., Washington, DC. The complete text of this decision may also be purchased from the Commission's copy contractors, Qualex International, Portals II, 445 12th Street, SW., Room CY-B402, Washington, DC, 20554, telephone 202-863-2893, facsimile 202-863-2898, or via e-mail qualexint@aol.com.

Federal Communications Commission.
John A. Karousos,
Assistant Chief, Audio Division, Media Bureau.

[FR Doc. 03-8405 Filed 4-4-03; 8:45 am]

BILLING CODE 6712-01-P